WOMEN'S PROGRESS COMMEMORATION COMMISSION

Meeting

AGENCY: Women's Progress Commemoration Commission.

ACTION: Meeting notice.

TIME AND DATE: Monday, April 30, 2001; Noon to 6 p.m.

PLACE: The meeting site is the Allegro Hotel, 171 W. Randolph Street, Chicago, IL 60601.

STATUS: The meeting is open to the public.

PURPOSE: To hear testimony regarding an appropriate process for designating women's history sites and for raising public awareness about the sites across the country.

CONTACT PERSON: For further information, contact Beth Newburger, Executive Director of the Women's Progress Commemoration Commission. Phone number 202-418-3437.

Beth W. Newburger,
Executive Director.

[FR Doc. 01-8872 Filed 4-10-01; 8:45 am]

BILLING CODE 6820-PF-P